DEPARTMENT OF TRANSPORTATION

Federal Aviation Administration

14 CFR Part 71

[Airspace Docket No. 00-ANM-33]

RIN 2120-AA66

Revision of Legal Descriptions of Multiple Federal Airways in the Vicinity of Douglas; WY

AGENCY: Federal Aviation Administration (FAA), DOT.

ACTION: Final rule.

SUMMARY: This action amends the legal descriptions of three Federal airways that use the Douglas, WY, Very High Frequency Omnidirectional Range/Distance Measuring Equipment (VOR/DME) in their route structure. Currently, the Douglas VOR/DME and the Converse County, WY, Airport share the same location identifier. The fact that the VOR/DME and the airport are not collocated has led to confusion among users. To eliminate this confusion, the Douglas VOR/DME will be renamed the “Hipsher VOR/DME,” and all the airways with “Douglas VOR/DME” included in their legal descriptions will be amended, concurrent with the effective date of this final rule, to reflect the name change.

EFFECTIVE DATE: 0901 UTC, May 17, 2001.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION:

The Rule

This action amends 14 CFR part 71 (part 71) by changing the legal descriptions of three Federal airways that have “Douglas VOR/DME” included as part of their route structure. Currently, the Douglas VOR/DME and the Converse County, WY Airport share the same location identifier. The fact that the VOR/DME and the airport are not collocated has led to confusion among users. To eliminate this confusion, the Douglas VOR/DME will be renamed the “Hipsher VOR/DME,” and all the airways with “Douglas VOR/DME” included in their legal descriptions will be amended to reflect the name change. The name change of the VOR/DME will coincide with the effective date of this rulemaking action.

Since this action merely involves editorial changes in the legal description of three Federal airways, and does not involve a change in the dimensions or operating requirements of that airspace, notice and public procedure under 5 U.S.C. 553(b) are unnecessary.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

Domestic VOR Federal airways are published in paragraph 6010(a) of FAA Order 7400.9H, dated September 1, 2000, and effective September 16, 2000, which is incorporated by reference in 14 CFR 71.1. The airways listed in this document would be published subsequently in the order.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E, AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9H, Airspace Designations and Reporting Points, dated September 1, 2000, and effective September 16, 2000, is amended as follows:

Paragraph 6010(a)—Domestic VOR Federal Airways

* * * * *

V-247 [Revised]

From Scottsbluff, NE, 75 MSL, INT Scottsbluff 307° and Hipsher, WY, 109° radials, 75 MSL, Hipsher; 90 miles 75 MSL, Crazy Woman, WY; INT Crazy Woman 347° and Sheridan, WY, 137° radials; Sheridan; INT Sheridan 327° and Billings, MT, 116° radials; Billings; INT Billings 301° and Helena, MT, 089° radials; to Helena.

* * * * *

V-254 [Revised]

From Hipsher, WY, via Gillette, WY, via Miles City, MT; to Glasgow, MT.

* * * * *

V-547 [Revised]

From Cheyenne, WY; INT Cheyenne 002° and Hipsher 152° radials; Hipsher, WY; to Casper, WY.

* * * * *

Issued in Washington, DC, on February 15, 2001.
Reginald C. Matthews,
Manager, Airspace and Rules Division.

[FR Doc. 01-4542 Filed 2-22-01; 8:45 am]

BILLING CODE 4910-13-U